SPECIAL INSPECTOR GENERAL FOR AFGHANISTAN RECONSTRUCTION

Office of Privacy, Records, and Disclosure; Privacy Act of 1974, as Amended

AGENCY: Special Inspector General for Afghanistan Reconstruction.

ACTION: Notice of Proposed Privacy Act Systems of Records.

SUMMARY: In accordance with the Privacy Act of 1974, as amended, the Special Inspector General for Afghanistan Reconstruction (SIGAR) gives notice of the establishment of three Privacy Act systems of records.

DATES: Comments must be received no later than May 16, 2012. The new system of records will be effective June 15, 2012 unless SIGAR receives comments that would result in a contrary determination.

ADDRESSES: Comments should be sent to Hugo Teufel, Acting General Counsel, Special Inspector General for Afghanistan Reconstruction, 2530 Crystal Drive, Arlington, VA 22202-3934. Comments will be made available for inspection up written request. SIGAR will make such comments available for public inspection in the Office of Privacy, Records, and Disclosure, 9th Floor, 1550 Crystal Drive, Arlington, VA 22202, on official business days between the hours of 9 a.m. and 5 p.m. Eastern time. You can make an appointment to inspect comments by telephoning (703) 602-2500. All comments, including attachments and other supporting materials, received are part of the public record and subject to public disclosure. You should submit only information that you wish to make available publicly.

FOR FURTHER INFORMATION CONTACT: Kate Gastner, Public Information Manager, Special Inspector General for Afghanistan Reconstruction, 2530 Crystal Drive, Arlington, VA 22202-3934, (703) 545-5993.

SUPPLEMENTARY INFORMATION: On January 28, 2008, the President signed into law the National Defense Authorization Act for Fiscal Year 2008 (Pub. L. 110-181), which created the Special Inspector General for Afghanistan Reconstruction (SIGAR). SIGAR is responsible for coordinating and conducting audits and investigations to promote efficiency and effectiveness of reconstruction programs, and to detect and prevent waste, fraud, and abuse of taxpayers' dollars. Under 5 U.S.C. 301, heads of Executive or military departments may prescribe regulations governing the conduct of its employees and the custody, use, and preservation of the department's records, papers, and property. To facilitate SIGAR's audits, investigations, and other operations, it plans to create the following systems of records:

SIGAR—01 Firearm Qualification Records;

SIGAR—02 Property Accountability Records;

SIGAR—03 Public Affairs Records.

In the notice of proposed rulemaking which is published separately in the Federal Register, SIGAR is proposing to exempt records maintained in several systems from certain of the Privacy Act's requirements pursuant to 5 U.S.C.552a(j)(2) and (k)(2).

The Report of the a new system of records, as required by 5 U.S.C. 552a(r) of the Privacy Act, has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000.

Sections 552a(e)(4) and (11) of title 5, United States Code, provide that an agency public a notice of the establishment or revision of a record system which affords the public a 30-day period in which to submit comments. To meet this requirement, descriptions of the three new systems of records are published in their entirety below.

Dated: April 10, 2012.
Steven J. Trent,
Acting Inspector General.

SIGAR-01

System location:

Special Inspector General for Afghanistan Reconstruction (SIGAR), 9th Floor, 1550 Crystal Drive, Arlington, VA 22202-4135.

Categories of individuals covered by the system:

SIGAR employees, consultants, and detailees who are required to conduct and/or to maintain firearms qualification, training, and proficiency activities in the performance of their regular duties.

Categories of records in the system:

Records of an individual's annual qualification scores; Social Security Number (SSN); approvals of arming authority and issue of federal officer credentials and firearms accountability and maintenance records.

Authority for maintenance of the system:

Public Law 110-181, Section 1229, National Defense Authorization Act for Fiscal Year 2008; 5 U.S.C. Appendix 3, Inspector General Act of 1978, as amended; and 5 U.S.C. Section 301, Government Organization and Employees.

Purpose(s):

Records are maintained and used to document the SIGAR firearms program information.

Routine uses of records maintained in the system including categories of users and the purposes of such uses:

In addition to those disclosures generally permitted under 5 U.S.C. 552a(b) of the Privacy Act of 1974, these records contained therein may specifically be disclosed outside SIGAR as a routine use pursuant to 5 U.S.C. 552a(b)(3) as follows:

1. To the appropriate local, state, foreign, or federal agency when records alone or in conjunction with other information, indicates a violation or potential violation of law, whether civil, criminal, or regulatory in nature, and whether arising by general statute or particular program pursuant thereto.

2. For the purpose of an investigation, settlement of claims, or the preparation and conduct of litigation to (1) persons representing SIGAR in the investigation, settlement or litigation, and to individuals assisting in such representation; (2) others involved in the investigation, settlement, and litigation, and their representatives and individuals assisting those representatives; and (3) witnesses, potential witnesses, or their representatives and assistants, and any person possessing information pertinent to the matter when it is necessary to obtain information or testimony relevant to the matter.

3. To the tribunals, counsel, other parties, witnesses, and the public (in publicly available pleadings, filings or discussion in open court) when such disclosure: (1) Is relevant to, and necessary for, the proceeding; (2) compatible with the purpose for which SIGAR collected the records; and (3) the proceedings involve: SIGAR, current or former contractors of the agency, or other United States Government agencies and their components, or a current or former employee of SIGAR, current of former contractors of SIGAR, or other United States Government agencies and their components, who is acting in an official capacity or in any individual capacity where SIGAR or other United States Government agency has agreed to represent the employee.

4. To a federal, foreign, state, or local agency to obtain information relevant to an agency decision concerning the hiring or retention of an employee, the issuance of a security clearance, the reporting of an investigation of an employee, the letting of a contract, or the issuance of a license, grant, or other benefit. The agency must deem such disclosure to be compatible with the purpose for which the agency collected the information.

5. To SIGAR contractors in performance of their contracts, and their officers and employees who have a need for the record in the performance of their duties. Those provided information under this routine use are subject to the same limitations applicable to agency officers and employees under the Privacy Act.

6. To training, administrative, and operations personnel of local law enforcement agencies in the performance of their regular duties in order to process and to maintain documentation for investigative personnel who have been commissioned as reserve officers or deputies.

7. When (1) it is suspected or confirmed that the security or confidentiality of information in the system of records has been compromised; (2) the agency has determined that as a result of the suspected or confirmed compromise there is a risk of harm to economic or property interests, identity theft or fraud, or harm to the security integrity of this system or other systems or programs (whether maintained by the agency or another agency or entity) that rely upon the compromised information; and (3) the disclosure is made to such agencies, entities, and persons who are reasonably necessary to assist in connection with the agency's efforts to respond to the suspected or confirmed compromise and prevent, minimize, or remedy such harm.

Policies and practices for storing, retrieving, accessing, and disposing of records in the system:

Storage:

Records are stored as paper records and/or electronic storage media.

Retrievability:

Records are retrieved by name and/or SSN.

Safeguards:

Paper records are maintained in locked cabinets and desks. Electronic records are controlled through established SIGAR computer center procedures (personnel screening and physical security), and they are password protected. Access is limited to those whose official duties require access to the records.

Retention and disposal:

Pursuant to General Records Schedule 1, item 29, individual qualification scores, are destroyed when five years old or five years after completion of a specific training program.

Pursuant to General Records Schedule 11, item 4, credentials files, are destroyed 3 months after return to issuing office.

System manager and address:

Assistant Inspector General for Investigations, 2530 Crystal Drive, Arlington, VA 22202-3934.

Notification procedure:

Individuals seeking to determine whether information about themselves is contained in this system should address written inquiries to the Office of the Special Inspector General for Afghanistan Reconstruction, Headquarters, Privacy Act Officer, 2530 Crystal Drive, Arlington, VA 22202.

The request should include the requestor's complete name, time period for which records are sought, and the office location(s) where the requestor believes the records are located.

Record access procedures:

Individuals seeking access to information about themselves contained in this system should address written inquiries to the Director, Privacy, Records and Disclosure, Office of the Special Inspector General for Afghanistan Reconstruction, Headquarters, 2530 Crystal Drive, Arlington, VA 22202. The request should include the requestor's complete name, time period for which records are sought, and the office location(s) where the requestor believes the records are located.

Contesting record procedures:

Same as Notification Procedures above.

Record source categories:

Arming and arrest credential notifications and firearms qualifications results from individuals and training personnel.

Exemptions claimed for the system:

None.

SIGAR-02

System name:

Property Accountability System.

System location:

Office of the Special Inspector General for Afghanistan Reconstruction (SIGAR), 9th Floor, 1550 Crystal Drive, Arlington, VA 22202-4135, and in SIGAR field offices in Afghanistan.

Categories of individuals covered by the system:

SIGAR employees, including consultants and detailees.

Categories of records in the system:

Name and employee/custodian identification and position numbers of employees assigned equipment, account numbers, organization, organization code, and location. Item description, date of purchase, acquired date, purchase price, purchase order number, vendor and manufacturer, model/serial/license number, serial number, catalog number, contract number, property tag identification, status/date, condition of property, operation number, high risk field, disposal code, storage location, responsible officer name.

Authority for maintenance of the system:

Public Law 110-181, Section 1229, National Defense Authorization Act for Fiscal Year 2008; 5 U.S.C. App. 3, Inspector General Act of 1978, as amended,; 40 U.S.C. 524, Section 202(b), Federal Property and Administrative Services Act of 1949;41 CFR, Chapter 101, Subtitle C., Federal Property Management Regulation (FPMR); and 5 U.S.C. Section 301, Government Organization and Employees.

Purpose(s):

To identify employees/custodians of issued equipment and provide inventories to satisfy other Federal Procurement Management Regulation requirements; to maintain a record of location of emergency equipment; to provide management information necessary for the budgeting and allocation of equipment; and to provide evidence of assignment, location, and value in the event that government property is stolen.

Routine uses of records maintained in the system, including categories of users and the purposes of such uses:

In addition to those disclosures generally permitted under 5 U.S.C. 552a(b) of the Privacy Act of 1974, these records contained therein may specifically be disclosed outside SIGAR as a routine use pursuant to 5 U.S.C. 552a(b)(3) as follows:

1. To any law enforcement agency as needed to provide evidence of assignment, location, and value in the event that Government property is stolen.

2. To the appropriate local, tribal, state, foreign or federal agency when records alone or in conjunction with other information, indicates a violation or potential violation of law whether civil, criminal, or regulatory in nature, and whether arising by general statute or particular program pursuant thereto.

3. For the purpose of an investigation, settlement of claims, or the preparation and conduct of litigation to (1) persons representing SIGAR in the investigation, settlement or litigation, and to individuals assisting in such representation; (2) others involved in the investigation, settlement, and litigation, and their representatives and individuals assisting those representatives; and (3) witness, potential witness, or their representatives and assistants, and any other person who possess information pertaining to the matter when it is necessary to obtain information or testimony relevant to the matter.

4. To the tribunals, counsel, other parties, witnesses, and the public (in publicly available pleadings, filings or discussion in open court) when such disclosure: (1) Is relevant to, and necessary for, the proceeding; (2) is compatible with the purpose for which SIGAR collected the records; and (3) the proceedings involve: (a) SIGAR, current or former contractors of SIGAR, or other United States Government agencies and their components, or (b) A current or former employee of SIGAR, current or former contractors of SIGAR, or other United States Government agencies and their components, who is acting in an official capacity or in any individual capacity where SIGAR or another United States Government agency has agreed to represent the employee.

5. To a Federal, foreign, state, tribal, or local agency to obtain information relevant to an Agency decision concerning the hiring or retention of an employee, the issuance of a security clearance, the letting of a contract, or the issuance of a license, grant, or other benefit. SIGAR must deem such disclosure to be compatible with the purpose for which it collected the information.

6. To SIGAR contractors in performance of their contracts, and their officers and employees who have a need for the record in the performance of their duties. Those provided information under this routine use are subject to the same limitations applicable to SIGAR officers and employees under the Privacy Act.

7. When (1) it is suspected or confirmed that the security or confidentiality of information in the system of records has been compromised; (2) the SIGAR has determined that as a result of the suspected or confirmed compromise there is a risk of harm to economic or property interests, identity theft or fraud, or harm to the security integrity if this system or other systems or programs (whether maintained by SIGAR or another agency or entity) that rely upon the compromised information; and (3) the disclosure is made to such agencies, entities, and persons who are reasonably necessary to assist in connection with SIGAR's efforts to respond to the suspected or confirmed compromise and prevent, minimize, or remedy such harm.

Policies and practices for storing, retrieving, accessing, retaining, and disposing of records in the system:

Storage:

Records are stored as paper records and/or electronic storage media.

Retrievability:

Records are retrieved by tag number, license number, employee/custodian name, employee identification number, position number, accounting information, catalog number, contract number, make, model, security logon identification, serial number, and/or storage location.

Safeguards:

Paper records are maintained in secured areas and/or maintained in locked cabinets and desks. Electronic records are controlled through established SIGAR computer center procedures (personnel screening and physical security), and are password protected. Access is limited to those whose official duties require access to the records.

Retention and disposal:

Pursuant to the General Records Schedule 3, item 4 and item 9, supply management and inventory files, are destroyed when 2 years old.

System manager(s) and address:

Assistant Inspector General for Management and Support, 2530 Crystal Drive, Arlington, VA 22202-3934.

Notification procedure:

Individuals seeking to determine whether information about themselves is contained in this system should address written inquiries to the Director, Privacy, Records and Disclosure, Office of the Special Inspector General for Afghanistan Reconstruction, Headquarters, 2530 Crystal Drive, Arlington, VA 22202.

The request should include the requester's complete name, time period for which records are sought, and the office location(s) where the requester believes the records are located.

Record access procedures:

Individuals seeking access to information about themselves contained in this system should address written inquiries to Director, Privacy, Records and Disclosure, Office of Special Inspector General for Afghanistan Reconstruction, 2530 Crystal Drive, Arlington, VA 22202.

The request should include the requestor's complete name, time period for which records are sought, and the office location(s) where the requestor believes the records are located.

Contesting record procedures:

Same as Notification Procedures above.

Record source categories:

Payroll/Personnel system applications, various internal forms, accountable property representative and employees, data processing personnel, and supply officers.

Exemptions claimed for the system:

None.

SIGAR-03

System Name:

Public Affairs Files

System location:

Special Inspector General for Afghanistan Reconstruction (SIGAR), 9th Floor, 1550 Crystal Drive, Arlington, VA 22202-4135.

Categories of Individuals covered by the system:

Media representatives who request interviews with the Inspector General or agency principals; individuals who request information from a press officer concerning an issue(s) or information about SIGAR and its policies; and representatives of nongovernmental organizations throughout the United States; federal, foreign, state and local government officials.

Categories of records in the system:

This system contains contact information for individuals who are involved in the operations of SIGAR; name, address, phone number, email addresses, and the like; assignments, biographies, speaking engagements, interviews and communications of executive level staff, principals and members of the media; press releases; names of media organizations; information on SIGAR employees who asked Public Affairs to publish information/articles about them.

Authority for maintenance of the system:

Public Law 110-181, Section 1229, National Defense Authorization Act for Fiscal Year 2008; Inspector General Act of 1978, as amended; 5 U.S.C. Appendix 3, Investigations; and 5 U.S.C. Section 301, Government Organization and Employees.

Purpose(s):

Enables SIGAR Public Affairs to establish and maintain contact with the media, members of civil society organizations and the general public and circulate information to specific individuals or groups based on self-identified regional and policy interests.

Routine uses of records maintained in the system, including categories of users and the purposes of such uses:

In addition to those disclosures generally permitted under 5 U.S.C. 552a(b) of the Privacy Act of 1974, these records contained therein may specifically be disclosed outside SIGAR as a routine use pursuant to 5 U.S.C. 552a(b)(3) as follows:

1. To contact members of the media to inform them of events, travel opportunities; respond to media representatives' and general public inquiries on various topics; and prepare briefing materials for interviewees.

2. To other U.S. Government agencies and the White House, and to foreign, state and local governments for purposes of planning and coordinating public engagement activities relevant to SIGAR's external and public affairs activities.

Policies and practices for storing, retrieving, accessing, retaining, and disposing of records in the system:

Storage:

Records are stored as paper records and electronic storage media.

Retrievability:

By individual name.

Safeguards:

Paper records are maintained in locked cabinets and desks. Electronic records are controlled through established SIGAR computer center procedures (personnel screening and physical security), and they are password protected. Access is limited to those whose official duties require access to the records.

Retention and disposal:

Records in this system will be retained in accordance with a schedule to be submitted for approval by the National Archives and Records Administration (NARA) and other government-wide records schedules, as applicable.

System manager(s) and address:

Director, Public Affairs, Office of the Special Inspector General for Afghanistan Reconstruction, 2530 Crystal Drive, Arlington, VA 22202-3934.

Notification procedures:

Individuals seeking to determine whether information about themselves is contained in this system should address written inquiries to the Director, Privacy, Records and Disclosure, Office of the Special Inspector General for Afghanistan Reconstruction, Headquarters, Privacy Act Officer, 2530 Crystal Drive, Arlington, VA 22202-3934.

The request should include the requestor's complete name, time period for which records are sought, and the office location(s) where the requestor believes the records are located.

Record access procedures:

Individuals seeking access to information about themselves contained in this system should address written inquiries to Director, Privacy, Records and Disclosure, Office of the Special Inspector General for Afghanistan Reconstruction, 2530 Crystal Drive, Arlington, VA 22202-3934.

The request should include the requestor's complete name, time period for which records are sought, and the office location(s) where the requestor believes the records are located.

Contesting record procedures:

Same as Notification Procedures above.

Record source categories:

These records contain information obtained directly from the individual who is the subject of these records, the agency or organization that the individual represents, published directories and/or other bureaus in SIGAR.

Exemptions:

None.

[FR Doc. 2012-8989 Filed 4-13-12; 8:45 am]

BILLING CODE 3710-L9-P